BROADCASTING BOARD OF GOVERNORS

Sunshine Act Meetings

DATE AND TIME: Wednesday, April 10, 2013, 8:00 a.m.-12:00 p.m. EDT.

PLACE: Cohen Building, Room 3321, 330 Independence Ave. SW., Washington, DC 20237.

SUBJECT: Notice of Meeting of the Broadcasting Board of Governors .

SUMMARY: The Broadcasting Board of Governors (BBG) will be meeting between 8 a.m. and 12 p.m. EDT at the location listed above. At the meeting, the BBG will receive and consider a BBG Board staffing plan and other personnel matters.

This meeting will be available for public observation via streamed webcast, both live and on-demand, on the BBG's public Web site at www.bbg.gov. Information regarding this meeting, including any updates or adjustments to its starting time, can also be found on the Agency's public Web site.

CONTACT PERSON FOR MORE INFORMATION: Persons interested in obtaining more information should contact Paul Kollmer-Dorsey at (202) 203-4545.

Paul Kollmer-Dorsey,
Deputy General Counsel.

[FR Doc. 2013-08211 Filed 4-4-13; 4:15 pm]

BILLING CODE 8610-01-P